FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 012011-001.

Title: MSC/YML Space Charter Agreement.

Parties: Mediterranean Shipping Co. S.A., and YangMing (UK) Ltd.

Filing Party: Wayne R. Rohde, Esq.; Sher & Blackwell LLP; 1850 M Street, NW.; Suite 900; Washington, DC 20036.

Synopsis: The amendment reduces the amount of space Mediterranean Shipping will charter to Yang Ming in the trade between U.S. Atlantic Coast ports and ports in Italy and Spain.

Agreement No.: 012055-001.

Title: Maersk Line/CMA CGM Cooperative Working Agreement.

Parties: A.P. Moller-Maersk A/S, and CMA CGM S.A.

Filing Party: Wayne R. Rohde, Esq.; Sher and Blackwell LLP; 1850 M Street, NW., Suite 900; Washington, DC 20036.

Synopsis: The amendment would add ports in the Mediterranean to the geographic scope of the agreement. The parties request expedited review.

By order of the Federal Maritime Commission.
Dated: January 16, 2009.
Karen V. Gregory,
Secretary.

[FR Doc. E9-1502 Filed 1-22-09; 8:45 am]

BILLING CODE 6730-01-P